INTERNATIONAL TRADE COMMISSION

[USITC SE-10-008]

Sunshine Act Meeting Notice; Rescheduling of Commission Meeting

AGENCY HOLDING THE MEETING: United States International Trade Commission.

ORIGINAL DATE AND TIME: April 14, 2010 at 11 a.m.

NEW DATE AND TIME: April 15, 2010 at 11 a.m.

PLACE: Room 101, 500 E Street, SW., Washington, DC 20436. Telephone: (202) 205-2000.

STATUS: Open to the public.

In accordance with 19 CFR 201.37, the Commission has determined to reschedule the above referenced Commission meeting. Earlier announcement of this rescheduling was not possible.

Issued: April 9, 2010.
By order of the Commission.
William R. Bishop,
Hearings and Meetings Coordinator.

[FR Doc. 2010-8587 Filed 4-9-10; 4:15 pm]

BILLING CODE 7020-02-P